DEPARTMENT OF COMMERCE

International Trade Administration

A-351-828

Certain Hot-Rolled, Flat-Rolled Carbon Quality Steel Products from Brazil: Rescission of Antidumping Duty Administrative Review

AGENCY: Import Administration, International Trade Administration, Department of Commerce.

SUMMARY: In response to a request from Nucor Corporation, a domestic interested party (“Nucor”), the Department of Commerce (“the Department”) initiated an administrative review of the antidumping duty order on certain hot-rolled, flat-rolled carbon quality steel products (“hot rolled steel”) from Brazil. See Initiation of Antidumping and Countervailing Duty Administrative Reviews, 72 FR 20986 (April 27, 2007). This administrative review covered the period March 1, 2006, through February 28, 2007. We are now rescinding this review due to a request by Nucor to rescind the review.

EFFECTIVE DATE: September 21, 2007.

FOR FURTHER INFORMATION CONTACT: John Drury or Angelica Mendoza, AD/CVD Operations, Office 7, Import Administration, International Trade Administration, U.S. Department of Commerce, 14th Street and Constitution Avenue, NW, Room 7866, Washington, DC 20230; telephone: (202) 482-0195 or (202) 482-3019, respectively.

SUPPLEMENTARY INFORMATION:

Background

The Department published an antidumping duty order on hot rolled steel from Brazil on March 12, 2002. See Notice of Antidumping Duty Order and of Sales at Less Than Fair Value: Certain Hot-Rolled Flat-Rolled Carbon Quality Steel Products from Brazil, 67 FR 11093 (March 12, 2002). The Department published a notice of “Opportunity to Request an Administrative Review” of the antidumping duty order for the period March 1, 2006, through February 28, 2007, on March 2, 2007. See Antidumping or Countervailing Duty Order, Finding, or Suspended Investigation; Opportunity To Request Administrative Review, 72 FR 9505 (March 2, 2007). Nucor requested that the Department conduct an administrative review of sales of merchandise covered by the order by Companhia Siderúgica Nactional (“CSN”) and Companhia Siderúgica de Tubarão (“CST”) on March 30, 2007. In response to the request from Nucor, the Department published the initiation of the antidumping duty administrative review on hot rolled steel from Brazil on April 27, 2007. See Initiation of Antidumping and Countervailing Duty Administrative Reviews, 72 FR 20986 (April 27, 2007).

The Department issued questionnaires to both CSN and CST on May 2, 2007, and issued a second questionnaire to CST on July 5, 2007. The Department received responses from CST on June 6, 2007, June 25, 2007, and July 9, 2007.

On May 3, 2007, CSN submitted a letter to the Department stating that it had no shipments of hot rolled steel to the United States during the period of review. The Department issued a “No Shipment Inquiry” to U.S. Customs and Border Protection (“CBP”) on May 31, 2007, to confirm that there were no shipments or entries of hot rolled steel from Brazil exported by CSN during the period of review (“POR”) of the instant administrative review. CBP only responds to the Department's inquiry when CBP finds that there have been shipments. CBP did not respond to the Department's inquiry, and no party submitted comments. Based on this information, on July 12, 2007, the Department determined that CSN did not have any shipments or entries of hot rolled steel from Brazil during the review period. See Memorandum to the File, through Angelica Mendoza, Program Manager, from John Drury, Senior Case Analyst: Companhia Siderúrgica Nactional - No Shipments of Certain Hot-Rolled Flat-Rolled Carbon Quality Steel Products from Brazil Pursuant to U.S. Customs and Border Protection Inquiry.

Nucor withdrew its request for review with respect to both CST and CSN on August 14, 2007. On August 15, 2007, Department officials contacted counsel for CST and inquired as to whether CST wished to continue the administrative review. Counsel for CST indicated that CST had no objection to rescinding the review. See Memorandum to the File, from John Drury, Senior Case Analyst: Telephone conversation with counsel for Companhia Siderúrgica de Tubarão, dated August 16, 2007.

Rescission of the Administrative Review

Pursuant to 19 CFR § 351.213(d)(1), the Secretary will rescind an administrative review under this section, in whole or in part, if a party that requested a review withdraws the request within 90 days of the date of publication of notice of initiation of the requested review. The Secretary may extend this time limit if the Secretary decides that it is reasonable to do so. See 19 CFR § 351.213(d)(1). Nucor's request is past the 90-day time limit; however, we find that it is reasonable to extend this deadline for the following reasons: (1) with respect to CSN, the Department determined that there were no shipments during the POR, and (2) with respect to both CST and CSN, all parties that requested reviews have withdrawn their requests and no party has objected to the termination of the review. Therefore, the Department determines that the continuation of the administrative review is not necessary.

In response to Nucor's withdrawal of its request for administrative reviews pursuant to 19 CFR § 351.213(d)(1), the Department hereby rescinds the administrative review of the antidumping duty order on hot rolled steel from Brazil for the period March 1, 2006, through February 28, 2007 for both CST and CSN. The Department intends to issue assessment instructions to CBP 15 days after the date of publication of this rescission of administrative review.

This notice serves as a reminder to parties subject to administrative protective order (“APO”) of their responsibility concerning the disposition of proprietary information disclosed under APO in accordance with 19 CFR § 351.305(a)(3). Timely written notification of the return or destruction of APO materials or conversion to judicial protective order is hereby requested. Failure to comply with the regulations and terms of an APO is a sanctionable violation.

This notice is published in accordance with sections 751(a)(1) and 777(i)(1) of the Tariff Act of 1930, as amended, and 19 CFR § 351.213(d)(4).

Dated: September 13, 2007.
Stephen J. Claeys,
Deputy Assistant Secretary for Import Administration.

[FR Doc. E7-18707 Filed 9-20-07; 8:45 am]

BILLING CODE 3510-DS-S